DEPARTMENT OF TRANSPORTATION

Federal Aviation Administration

14 CFR Part 39

[Docket No. FAA-2011-1087; Directorate Identifier 2011-NM-032-AD]

RIN 2120-AA64

Airworthiness Directives; Airbus Model A318, A319, A320, and A321 Series Airplanes

AGENCY: Federal Aviation Administration (FAA), DOT.

ACTION: Notice of proposed rulemaking (NPRM).

SUMMARY: We propose to adopt a new airworthiness directive (AD) for the products listed above that would supersede two existing ADs. This proposed AD results from mandatory continuing airworthiness information (MCAI) originated by an aviation authority of another country to identify and correct an unsafe condition on an aviation product. The MCAI describes the unsafe condition as:

Following in-service experience, analyses of the failure to follow procedure or heed existing cockpit cues were conducted to assess the consequences of mismanagement of thrust levers during landing.

The investigation results identified the need for improvements in the identification of throttle mis-positioning and so providing further opportunity for the flight crew to identify an incorrect thrust lever configuration and to correct this. * * * In addition, the analysis of the thrust lever management issue shows two categories of scenarios that could lead to thrust asymmetry during landing with controllability and deceleration consequences [.]

* * * * *

These thrust asymmetry conditions, if not corrected, could result in loss of control of the aeroplane during landing.

* * * * *

The proposed AD would require actions that are intended to address the unsafe condition described in the MCAI.

DATES: We must receive comments on this proposed AD by December 5, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC, between 9 a.m. and 5 p.m., Monday through Friday, except Federal holidays.

For service information identified in this proposed AD, contact Airbus, Airworthiness Office—EAS, 1 Rond Point Maurice Bellonte, 31707 Blagnac Cedex, France; telephone +33 5 61 93 36 96; fax +33 5 61 93 44 51; e-mail: account.airworth-eas@airbus.com; Internet http://www.airbus.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tim Dulin, Aerospace Engineer, International Branch, ANM-116, Transport Airplane Directorate, FAA, 1601 Lind Avenue, SW., Renton, Washington 98057-3356; telephone (425) 227-2141; fax (425) 227-1149.

SUPPLEMENTARY INFORMATION:

Comments Invited

We invite you to send any written relevant data, views, or arguments about this proposed AD. Send your comments to an address listed under the ADDRESSES section. Include “Docket No. FAA-2011-1087; Directorate Identifier 2011-NM-032-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On October 23, 1997, we issued AD 97-22-13, Amendment 39-10185 (62 FR 58891, October 31, 1997) (which corresponds to Direction Générale de l'Aviation Civile (DGAC) AD 96-079-079(B), dated April 10, 1996, and which supersedes FAA AD 94-20-02, Amendment 39-9030 (59 FR 48563, September 22, 1994)); and on May 10, 2002, we issued AD 2002-10-06, Amendment 39-12752 (67 FR 35425, May 20, 2002) (which corresponds to DGAC AD 2000-320-147(B), dated July 26, 2000). AD 97-22-13 required a limitations section revision to the airplane flight manual and the installation of a new flight warning computer (FWC). AD 2002-10-06 required the replacement of the FWC.

Since we issued AD 97-22-13, Amendment 39-10185 (62 FR 58891, October 31, 1997) and AD 2002-10-06, Amendment 39-12752 (67 FR 35425, May 20, 2002), we have determined in consultation with the European Aviation Safety Agency (EASA), which is the Technical Agent for the Member States of the European Community, that additional actions are necessary to address the unsafe condition. EASA has issued EASA Airworthiness Directive 2011-0001, dated January 10, 2011 (referred to after this as “the MCAI”), to correct an unsafe condition for the specified products. The MCAI states:

Following in-service experience, analyses of the failure to follow procedure or heed existing cockpit cues were conducted to assess the consequences of mismanagement of thrust levers during landing.

The investigation results identified the need for improvements in the identification of throttle mis-positioning and so providing further opportunity for the flight crew to identify an incorrect thrust lever configuration and to correct this. For the A320 family of aeroplanes this being IDLE or REVERSE, which is necessary to enable ground spoiler (G/S) extension and auto-brake (A/BRK) functions. In addition, the analysis of the thrust lever management issue shows two categories of scenarios that could lead to thrust asymmetry during landing with controllability and deceleration consequences:

—One thrust lever kept in forward thrust when the other is put in IDLE or REVERSE. This has been seen in cases of dispatch with one thrust reverser inoperative; and

—One thrust lever moved in forward position after landing, usually when bringing the thrust lever back from REVERSE to IDLE.

These thrust asymmetry conditions, if not corrected, could result in loss of control of the aeroplane during landing.

This [EASA] AD supersedes DGAC France AD 94-211-059(B) R2 and 96-079-079(B) [which corresponds to FAA AD 97-22-13 (62 FR 58891, October 31, 1997], mandating Aircraft Flight Manual Temporary Revision reference 9.99.99/20 and the installation of FWC P/N 350E017248685 (H1D2) as terminating action for both ADs.

This [EASA] AD retains the requirements of DGAC France AD 2000-320-147(B) [which corresponds to FAA AD 2002-10-06 (67 FR 35425, May 20, 2002)], which is also superseded, which required the installation of FWC P/N 350E017271616 (H1E2).

For the reasons described above, this [EASA] AD requires the replacement of both FWC units with minimum FWC P/N 350E053020909 (H2F5) units, introducing “Enhanced RETARD” logic.

You may obtain further information by examining the MCAI in the AD docket.

Relevant Service Information

Airbus has issued Mandatory Service Bulletin A320-31-1106, Revision 05, dated September 21, 2000; Service Bulletin A320-31-1141, Revision 04, dated February 14, 2002; Service Bulletin A320-31-1334, Revision 04, including Appendix 01, dated September 12, 2011. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 729 products of U.S. registry.

The actions that are required by AD 2002-10-06 Amendment 39-12752 (67 FR 35425, May 20, 2002) and retained in this proposed AD take about 7 work-hours per product, at an average labor rate of $85 per work-hour. Required parts would cost about $0 per product. Where the service information lists required parts costs that are covered under warranty, we have assumed that there will be no charge for these parts. As we do not control warranty coverage for affected parties, some parties may incur costs higher than estimated here. Based on these figures, the estimated cost of the currently required actions is $595 per product.

We estimate that it would take about 4 work-hours per product to comply with the new basic requirements of this proposed AD. The average labor rate is $85 per work-hour. Required parts would cost about $0 per product. Based on these figures, we estimate the cost of the proposed AD on U.S. operators to be $247,860, or $340 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-10185 (62 FR 58891, October 31, 1997) and Amendment 39-12752, (67 FR 35425, May 20, 2002) and adding the following new AD:

Airbus: Docket No. FAA-2011-1087; Directorate Identifier 2011-NM-032-AD.

Comments Due Date

(a) We must receive comments by December 5, 2011.

Affected ADs

(b) This AD supersedes AD 97-22-13, Amendment 39-10185 (62 FR 58891, October 31, 1997); and AD 2002-10-06, Amendment 39-12752 (67 FR 35425, May 20, 2002).

Applicability

(c) This AD applies to Airbus Model A318-111, -112, -121, and -122 airplanes; Model A319-111, -112, -113, -114, -115, -131, -132, and -133 airplanes; Model A320-111, -211, -212, -214, -231, -232, and -233 airplanes; and Model A321-111, -112, -131, -211, -212, -213, -231, and -232 airplanes; certificated in any category; all serial numbers; if equipped with a flight warning computer (FWC) with a part number (P/N) listed in table 1 of this AD.

Table 1—List of FWC Part Numbers Affected by This AD
FWC Part No.
350E017238484 (H1D1)
350E016187171 (C5)
350E017248685 (H1D2)
350E017251414 (H1E1)
350E017271616 (H1E2)
350E018291818 (H1E3CJ)
350E018301919 (H1E3P)
350E018312020 (H1E3Q)
350E053020202 (H2E2)
350E053020303 (H2E3)
350E053020404 (H2E4)
350E053020606 (H2F2)
350E053020707 (H2F3)
350E053021010 (H2F3P)
350E053020808 (H2F4)

Subject

(d) Air Transport Association (ATA) of America Code 31: Indicating and Recording Systems.

Reason

(e) The mandatory continuing airworthiness information (MCAI) states:

Following in-service experience, analyses of the failure to follow procedure or heed existing cockpit cues were conducted to assess the consequences of mismanagement of thrust levers during landing.

The investigation results identified the need for improvements in the identification of throttle mis-positioning and so providing further opportunity for the flight crew to identify an incorrect thrust lever configuration and to correct this. * * * In addition, the analysis of the thrust lever management issue shows two categories of scenarios that could lead to thrust asymmetry during landing with controllability and deceleration consequences:

* * * * *

These thrust asymmetry conditions, if not corrected, could result in loss of control of the aeroplane during landing.

* * * * *

Compliance

(f) You are responsible for having the actions required by this AD performed within the compliance times specified, unless the actions have already been done.

Restatement of Requirements of AD 2002-10-06, Amendment 39-12752 (67 FR 35425, May 20, 2002), With New Optional Method of Compliance

Modification

(g) For Model A319, A320, and A321 series airplanes without Airbus modification 26017: Within 18 months after June 24, 2002 (the effective date of AD 2002-10-06, Amendment 39-12752 (67 FR 35425, May 20, 2002)), replace the flight warning computers (FWCs) in accordance with Airbus Service Bulletin A320-31-1106, Revision 04, dated December 21, 1999; or Revision 05, dated September 21, 2000.

Note 1: FWC replacement accomplished prior to June 24, 2002, in accordance with Airbus Service Bulletin A320-31-1106, dated January 3, 1997; Revision 01, dated April 16, 1997; Revision 02, dated January 20, 1998; or Revision 03, dated July 9, 1999; is acceptable for compliance with the requirements of paragraph (g) of this AD.

Optional Method of Compliance

(h) Installation of a FWC standard in accordance with the Accomplishment Instructions of Airbus Service Bulletin A320-31-1141, Revision 04, dated February 14, 2002, is an acceptable method of compliance with the replacement required by paragraph (g) of this AD.

New Requirements of This AD

Flight Warning Computer Replacement

(i) Within 48 months after the effective date of this AD: Replace both FWC units with FWC part number 350E053020909, in accordance with the Accomplishment Instructions of Airbus Service Bulletin A320-31-1334, Revision 04, including Appendix 01, dated September 12, 2011.

Credit for Actions Accomplished in Accordance With Previous Service Information

(j) For all airplanes, except for Model A319 series airplanes on which modifications 28238, 28162, and 28342 have been incorporated, replacing both FWCs in accordance with Airbus Service Bulletin A320-31-1334, dated July 30, 2009; Revision 01, dated December 14, 2009; or Revision 02, dated September 13, 2010; or Revision 03, dated March 15, 2011; before the effective date of this AD is acceptable for compliance with the corresponding replacement required by paragraph (i) of this AD.

(k) Replacing both FWCs in accordance with Airbus Service Bulletin A320-31-1141, dated March 6, 2000; Revision 01, dated May 25, 2000; Revision 02, dated January 22, 2001; or Revision 03, dated June 12, 2001; before the effective date of this AD is acceptable for compliance with the corresponding installation specified in paragraph (h) of this AD.

Parts Installation

(l) As of the effective date of this AD, and after accomplishing the actions in paragraph (i) of this AD, no person may install a FWC with a P/N listed in table 1 of this AD on any airplane.

FAA AD Differences

Note 2: This AD differs from the MCAI and/or service information as follows: No differences.

Other FAA AD Provisions

(m) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tim Dulin, Aerospace Engineer, International Branch, ANM-116, Transport Airplane Directorate, FAA, 1601 Lind Avenue, SW., Renton, Washington 98057-3356; telephone 425-227-2141; fax 425-227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(n) Refer to MCAI EASA Airworthiness Directive 2011-0001, dated January 10, 2011; Airbus Service Bulletin A320-31-1106, Revision 04, dated December 21, 1999; Airbus Mandatory Service Bulletin A320-31-1106, Revision 05, dated September 21, 2000; Airbus Service Bulletin A320-31-1141, Revision 04, dated February 14, 2002; and Airbus Service Bulletin A320-31-1334, Revision 04, including Appendix 01, dated September 12, 2011; for related information.

Issued in Renton, Washington, on October 11, 2011.
Ali Bahrami,
Manager, Transport Airplane Directorate, Aircraft Certification Service.

[FR Doc. 2011-27026 Filed 10-18-11; 8:45 am]

BILLING CODE 4910-13-P